DEPARTMENT OF THE INTERIOR

Bureau of Land Management

[14XL LLIDI01000.L12320000.AL0000. LVRDID130000 241A 4500073664]

Proposed Information Collection, OMB Control Number 1004-XXXX

AGENCY: Bureau of Land Management, Interior.

ACTION: 60-day notice and request for comments.

SUMMARY: The Bureau of Land Management (BLM) will ask the Office of Management and Budget (OMB) to approve the information collection (IC) described below. In compliance with the Paperwork Reduction Act of 1995, we invite the general public and other Federal agencies to comment on this IC. We may not conduct or sponsor, and a person is not required to respond to, a collection of information unless it displays a valid OMB control number.

DATES: Please submit your comments on this IC by March 23, 2015.

ADDRESSES: You may submit your comments by mail, fax, or electronic mail. Mail: U.S. Department of the Interior, Bureau of Land Management, 1849 C St. NW., Washington, DC 20240. Fax: to Jean Sonneman at (202) 912-7102. Electronic mail: jesonnem@blm.gov. Regardless of the form of your comments, please indicate “Attention: 1004-XXXX.”

FOR FURTHER INFORMATION CONTACT: Shannon Bassista, Upper Snake Field Office, at (208) 524-7552 (commercial or FTS) or email at sbassista@blm.gov. Persons who use telecommunication devices for the deaf may call the Federal Information Relay Service (FIRS) at 800-877-8339 to contact Mrs. Bassista. The FIRS is available 24 hours a day, 7 days a week, to leave a message for Mrs. Bassista. You will receive a reply during normal business hours. You may also contact Mrs. Bassista to obtain a copy, at no cost, of the regulations that authorize this collection of information.

SUPPLEMENTARY INFORMATION:

I. Abstract

The Department of the Interior, BLM, is requesting OMB approval to collect information from visitors to the St. Anthony Sand Dunes (SASD) planning area, located in eastern Idaho on public lands administered under the Medicine Lodge Resource Management Plan (RMP). The information collected will determine changes in visitor characteristics, including demographics, usage, user conflicts and perspectives toward management programs and facilities. The planning area includes lands designated as a Wilderness Study Area, a Special Recreation Management Area (SRMA) and an Area of Critical Environmental Concern (ACEC). Most recreational use occurs on the 25 percent of the project planning area that has these special designations. The BLM Planning for Recreation and Visitor Services Handbook states that SRMAs may need to develop additional guidance in a Recreation Area Management Plan (RAMP) for addressing complex implementation issues not specifically addressed in the RMP for an area. In this case, information collected at the SASD will provide guidance when writing a RAMP that will provide specific direction for on-the-ground implementation of the RMP.

In 2013, a site-specific study was conducted by the University of Idaho and the BLM at the BLM-managed Egin Lakes Campground, which is located within the SRMA and ACEC. This study collected data on visitor demographics, visitor views on facilities and resource conditions, and visitor expectations for the campground and the surrounding area. The proposed visitor use survey will supplement the 2013 data with additional information on subjects such as existing and proposed management actions, issuance of Special Recreation Permits, conflicts between visitors, and travel management issues. For this new information collection, the University of Idaho will serve as the lead investigator and utilize a similar approach as in the previous study. Methods include administering onsite questionnaires to visitors on a stratified random sampling basis and distributing mail-back questionnaires (with an online option) to identified interests in the area (for example, local elected officials, recreation and environmental groups, and visitors whose contact information we gathered during 2014). The questionnaire will ask respondents about user conflicts, observable resource impacts, attitudes toward various resource values, sources of information about the campground sites, perspectives on facilities, commercial activities and associated management, and basic demographic data including level of education, age, and organizational affiliations. The survey will be conducted during the summer season (May through October), when visitation rates are highest.

II. Data

OMB Control Number: 1004-XXXX.

Title: Visitor Use Survey.

Frequency: On occasion.

Description of Respondents: Visitors and recreationists.

Respondents' obligation: Voluntary.

Estimated Reporting and Recordkeeping “Hour” Burden: The estimated reporting burden for this collection is 845 responses and 211 hours. The following table details the individual components and estimated hour burdens of this collection.

Activity | Estimated number of respondents | Estimated number of responses per respondent | Completion time per response (minutes) | Total burden hours
On-site visitors: on-site, mail or on-line questionnaires | 420 | 1 | 15 | 105
Mail or online questionnaire to identified interests | 425 | 1 | 15 | 106
Totals | 845 |  |  | 211

III. Request for Comments

OMB regulations at 5 CFR 1320, which implement provisions of the Paperwork Reduction Act (44 U.S.C. 3501-3521), require that interested members of the public and affected agencies be provided an opportunity to comment on information collection and recordkeeping activities (see 5 CFR 1320.8(d) and 1320.12(a)). The BLM will request that the OMB approve this information collection activity for a 3-year term. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments received will accompany the BLM's submission of the information collection request to OMB. Before including your address, phone number, email address, or other personal identifying information in your comment, you should be aware that your entire comment—including your personal identifying information—may be made publicly available at any time. While you can ask us in your comment to withhold your personal identifying information from public review, we cannot guarantee that we will be able to do so.

Jean Sonneman,
Information Collection Clearance Officer, Bureau of Land Management.

[FR Doc. 2015-00883 Filed 1-20-15; 8:45 am]

BILLING CODE 4310-GG-P